DEPARTMENT OF HEALTH AND HUMAN SERVICES

National Institutes of Health

The Use of Chimpanzees in NIH-Supported Research

SUMMARY: This notice provides information on the National Institutes of Health's (NIH) reassessment of the need to maintain a colony of 50 chimpanzees for future research and decision to no longer maintain a chimpanzee colony for research. This notice also provides information on conforming updates and procedures related to this action.

FOR FURTHER INFORMATION CONTACT: The Division of Program Coordination, Planning, and Strategic Initiatives, Office of the Director, National Institutes of Health at dpcpsi@od.nih.gov.

SUPPLEMENTARY INFORMATION: On November 18, 2015, the NIH announced it will no longer maintain a colony of 50 chimpanzees for future research and that all NIH-owned chimpanzees that reside outside the federal sanctuary system operated by Chimp Haven, Keithville, Louisiana, are eligible for retirement. Relocation of the chimpanzees to the federal sanctuary system will be conducted as space is available and on a timescale that will allow for optimal transition of each individual chimpanzee with careful consideration of their welfare, including their health and social grouping. See the NIH Director's statement at https://www.nih.gov/about-nih/who-we-are/nih-director/statements/nih-will-no-longer-support-biomedical-research-chimpanzees. Consistent with this decision, the NIH is limiting its future support for research using chimpanzees to that which would be permissible in the federal sanctuary system under the Chimpanzee Health Improvement, Maintenance and Protection (CHIMP) Act and the implementing regulations at 42 CFR part 9. Such research must either be noninvasive behavioral studies or medical studies based on information collected during the course of normal veterinary care that is provided for the benefit of the chimpanzee, provided that any such study involves minimal physical and mental harm, pain, distress, and disturbance to the chimpanzee and the social group in which the chimpanzee lives.

Specifically, permissible research, as described in the “Standards of Care for Chimpanzees Held in the Federally Supported Chimpanzee Sanctuary System” at 42 CFR part 9, includes:

• Visual observation;

• Behavioral studies designed to improve the establishment and maintenance of social groups. These activities may cause stress as a result of novel interactions between chimpanzees and caregivers, but they are not considered invasive as long as they are intended to maximize the well-being of the chimpanzees;

• Medical examinations as deemed necessary to oversee the health of the chimpanzees, in the least invasive manner possible. Collection of samples routinely obtained during a physical examination for processing during this time is also considered noninvasive since a separate event is not required;

• Administration and evaluation of environmental enrichment used to promote the psychological well-being of the chimpanzees; and

• Actions taken to provide essential medical treatment to an individual chimpanzee exhibiting symptoms of illness. This applies only to serious illness that cannot be treated while the chimpanzee remains within the colony.

• Observational studies and collection of biomaterial in the wild without interfering with the chimpanzee is also permitted.

These decisions apply to all new or competing renewals of grant applications, contract proposals, intramural protocols, and 3rd party projects. The NIH may issue future guidance about the permissible noninvasive research involving chimpanzees. Researchers are encouraged to contact their program officers for additional information or the Division of Program Coordination, Planning, and Strategic Initiatives at dpcpsi@od.nih.gov.

The NIH's decision to allow the support of noninvasive research involving the use of chimpanzees, as described in this notice, does not affect requirements for investigators and/or their institutions to obtain permits from the U.S. Fish and Wildlife Service, if applicable, nor does it affect the responsibility to meet all applicable veterinary, colony, and husbandry obligations.

Dated: February 2, 2016.
Lawrence A. Tabak,
Deputy Director, National Institutes of Health.

[FR Doc. 2016-02554 Filed 2-8-16; 8:45 am]

BILLING CODE 4140-01-P